NATIONAL FOUNDATION ON THE ARTS AND THE HUMANITIES

National Endowment for the Arts; Arts Advisory Panel

Pursuant to Section 10(a)(2) of the Federal Advisory Committee Act (Pub. L. 92-463), as amended, notice is hereby given that a meeting of the Fellowships Advisory Panel, Literature section (Poetry Fellowships category) to the National Council on the Arts announced for September 21-23, 2004 in Room 716 at the Nancy Hanks Center, 1100 Pennsylvania Avenue, NW., Washington, DC, 20506, will be held as a meeting of the Arts Advisory Panel. All other information regarding this meeting remains unchanged.

Dated: August 19, 2004.
Kathy Plowitz-Worden,
Panel Coordinator, Panel Operations, National Endowment for the Arts.

[FR Doc. 04-19497 Filed 8-25-04; 8:45 am]

BILLING CODE 7537-01-P